ENVIRONMENTAL PROTECTION AGENCY

40 CFR Part 52

[EPA-R03-OAR-2018-0153; FRL-9986-62-Region 3]

Approval and Promulgation of Air Quality Implementation Plans; Maryland; Amendment to Control of Emissions of Volatile Organic Compounds From Consumer Products

AGENCY: Environmental Protection Agency (EPA).

ACTION: Proposed rule; reopening of comment period.

SUMMARY: The Environmental Protection Agency (EPA) is reopening the comment period for the proposed approval to a state implementation plan (SIP) revision submitted by the State of Maryland pertaining to the Code of Maryland Regulations (COMAR) 26.11.32—Control of Emissions of Volatile Organic Compounds (VOCs) from Consumer Products. The proposed rule was published in the Federal Register on August 8, 2018 (83 FR 39009). Written comments on the proposed rule were to be submitted to EPA on or before September 7, 2018. The purpose of this document is to reopen the comment period for an additional 30 days. This extension of the comment period is provided to allow the public additional time to provide comment on the August 8, 2018 proposed rule. All comments submitted between the close of the original comment period and the reopening of this comment period will be accepted and considered.

DATES: Written comments must be received on or before December 17, 2018.

ADDRESSES: Submit your comments, identified by Docket ID No. EPA-R03-OAR-2018-0153 at http://www.regulations.gov, or via email to Susan Spielberger, Associate Director, Office of Air Planning and Programs, Spielberger.Susan@epa.gov. For comments submitted at Regulations.gov, follow the online instructions for submitting comments. Once submitted, comments cannot be edited or removed from Regulations.gov. For either manner of submission, EPA may publish any comment received to its public docket. Do not submit electronically any information you consider to be confidential business information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, please contact the person identified in the FOR FURTHER INFORMATION CONTACT section. For the full EPA public comment policy, information about CBI or multimedia submissions, and general guidance on making effective comments, please visit http://www2.epa.gov/dockets/commenting-epa-dockets.

FOR FURTHER INFORMATION CONTACT: Gregory Becoat (215) 814-2036, or by email at becoat.gregory@epa.gov.

SUPPLEMENTARY INFORMATION: On August 8, 2018 (83 FR 39009), EPA proposed approval to a SIP revision submitted by the Maryland Department of Environment (MDE) for COMAR 26.11.32—Control of Emissions of Volatile Organic Compounds from Consumer Products. The amendment is part of Maryland's strategy to achieve and maintain the 8-hour ozone national ambient air quality standards (NAAQS) throughout the State.

I. Extension of Comment Period

EPA is reopening the comment period due to a comment noting that the California Air Resources Board (CARB) and the Ozone Transport Commission (OTC) model rules referenced in the NPR were not in the docket on www.regulations.gov. EPA has now put these documents into the docket identified by Docket ID No. EPA-R03-OAR-2018-0153 at www.regulations.gov.

List of Subjects in 40 CFR Part 52

Environmental protection, Air pollution control, Consumer products, Incorporation by reference, Ozone, Reporting and recordkeeping requirements, Volatile organic compounds.

Authority: 42 U.S.C. 7401 et seq.

Dated: November 1, 2018.
Cosmo Servidio,
Regional Administrator, Region III.

[FR Doc. 2018-25078 Filed 11-15-18; 8:45 am]

BILLING CODE 6560-50-P